DEPARTMENT OF HOMELAND SECURITY

U.S. Customs and Border Protection

Reopening of Application Period for Participation in the Air Cargo Advance Screening (ACAS) Pilot Program

AGENCY: U.S. Customs and Border Protection, DHS.

ACTION: General notice.

SUMMARY: On October 24, 2012, U.S. Customs and Border Protection (CBP) published a notice in the Federal Register that announced the formalization and expansion of the Air Cargo Advance Screening (ACAS) pilot program and a 30 day application period (until November 23, 2012) for new participants. This document announces that CBP is reopening the application period for 15 days. The ACAS pilot is a voluntary test in which participants submit a subset of the required advance air cargo data to CBP at the earliest point practicable prior to loading of the cargo onto the aircraft destined to or transiting through the United States.

DATES: CBP is reopening the application period to accept applications from new ACAS pilot participants until January 8, 2013. Comments concerning any aspect of the announced test may be submitted at any time during the test period.

ADDRESSES: Applications to participate in the ACAS pilot must be submitted via email to CBPCCS@cbp.dhs.gov. Written comments concerning program, policy, and technical issues may be submitted via email to CBPCCS@cbp.dhs.gov.

FOR FURTHER INFORMATION CONTACT: Regina Park, Cargo and Conveyance Security, Office of Field Operations, U.S. Customs & Border Protection, via email at regina.park@dhs.gov.

SUPPLEMENTARY INFORMATION:

Background

On October 24, 2012, CBP published a general notice in the Federal Register (77 FR 65006, corrected in 77 FR 65395 ¹) announcing that CBP is formalizing and expanding the ACAS pilot to include other eligible participants in the air cargo environment. The ACAS pilot revises the time frame for transmission by pilot participants of a subset of mandatory advance electronic information for air cargo. CBP regulations implementing the Trade Act of 2002 require advance information for air cargo to be submitted no later than the time of departure of the aircraft for the United States (from specified locations) or four hours prior to arrival in the United States for all other locations. See 19 CFR 122.48a.

¹ The Federal Register corrected the email address under the ADDRESSES heading from “CBPCCS@cbpdhs.gov” to “CBPCCS@cbp.dhs.gov” on October 26, 2012.

The ACAS pilot is a voluntary test in which participants agree to submit a subset of the required 19 CFR 122.48a data elements (ACAS data) at the earliest point practicable prior to loading of the cargo onto the aircraft destined to or transiting through the United States. The ACAS data is used to target high-risk air cargo. The results of the ACAS pilot will help determine the relevant data elements, the time frame within which data should be submitted to permit CBP to effectively target, identify and mitigate any risk with the least impact practicable on trade operations, and any other related procedures and policies.

Reopening of Application Period

In the notice announcing the ACAS pilot, CBP stated that applications from new ACAS pilot participants would be accepted until November 23, 2012. However, CBP received a number of requests for extensions for submitting applications. CBP also experienced technical difficulties with the email box set up for the ACAS pilot, and therefore CBP may not have received all submitted applications. Any applicants who have not received a response from CBP will need to resubmit their applications. Accordingly, CBP is reopening the application period until January 8, 2013.

Anyone interested in participating in the ACAS pilot should refer to the notice published in the Federal Register on October 24, 2012, for additional application information and eligibility requirements.

Dated: December 19, 2012.
David Murphy,
Acting Assistant Commissioner, Office of Field Operations.

[FR Doc. 2012-30922 Filed 12-21-12; 8:45 am]

BILLING CODE 9111-14-P